DEPARTMENT OF TRANSPORTATION

National Highway Traffic Safety Administration

49 CFR Part 571

[Docket No. NHTSA-2010-0132]

RIN 21217-AK17

Federal Motor Vehicle Safety Standards; New Pneumatic Tires for Motor Vehicles With a Gross Vehicle Weight Rating (GVWR) of More Than 4,536 Kilograms (10,000 Pounds) and Motorcycles

AGENCY: National Highway Traffic Safety Administration (NHTSA), Department of Transportation (DOT).

ACTION: Extension of comment period.

SUMMARY: NHTSA has received a petition asking the agency to extend the comment period for its proposal to upgrade the Federal motor vehicle safety standard (FMVSS) that applies to new pneumatic tires for use on vehicles with a gross vehicle weight rating (GVWR) greater than 10,000 pounds and motorcycles. In the proposal, NHTSA established a deadline for the submission of written comments of November 29, 2010. In light of that petition and the need to ensure that all interested parties have a sufficient amount of time to fully develop their comments, the agency is extending the deadline for the submission of written comments by 30 days.

DATES: Written comments must be received by December 29, 2010.

ADDRESSES: You may submit comments (identified by the NHTSA Docket ID Number above) by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: George Soodoo, NHTSA Office of Rulemaking (Telephone: 202-366-2720) (Fax: 202-493-2739) or Thomas Healy, NHTSA Office of Chief Counsel (Telephone: 202-366-7161) (Fax: 202-366-3820). The mailing address for these officials is: National Highway Traffic Safety Administration, U.S. Department of Transportation, 1200 New Jersey Avenue, SE., West Building, Washington, DC 20590.

SUPPLEMENTARY INFORMATION: NHTSA issued a notice of proposed rulemaking (NPRM) proposing to upgrade FMVSS No. 119 (49 CFR 571.119), which applies to new pneumatic tires for vehicles with a GVWR greater than 10,000 pounds and motorcycles. The NPRM was published on September 29, 2010 (75 FR 60037, Docket No. NHTSA-2010-0132). In the NPRM, among other matters, NHTSA proposed to amend FMVSS No. 119 to adopt a more stringent endurance test and a new high speed test for heavy vehicle tires with a load range of F, G, H, J, and L.

The Rubber Manufacturers Association (RMA), which represents manufacturers of finished rubber products, including tire manufacturers, has petitioned for an extension of the comment period on the NPRM. RMA said that it is requesting a 30-day extension so that its members can complete all of their additional testing to evaluate the more stringent endurance test proposed by the agency and to develop new data to demonstrate differences in outcomes with tire break-in versus no break-in for the new proposed high speed test. RMA indicated that it also intends to supplement its earlier test data submitted to the agency on April 14, 2009. RMA believes that the earlier data set submitted to the docket, combined with additional new data, will assist NHTSA in evaluating RMA's comments and arriving at a final rule. RMA maintains that its members require several weeks to complete even a small test program of the 47-hour endurance test. Therefore, RMA indicates that it is not possible for its members to complete all of their additional testing and have it ready for submittal by November 29, 2010.

In considering the extension request, NHTSA weighed the complexity and importance of this rulemaking and the basis for the request. We have decided there is good cause to grant the petition and extend the comment period 30 days. The extension is in the public interest since it will provide the public additional time to prepare and submit useful technical information that should benefit agency decision-making in this rulemaking action. Accordingly, NHTSA extends the period for the submission of written comments in this proceeding to December 29, 2010.

Authority: 49 U.S.C. 322, 30111, 30115, 30166 and 30177; delegation of authority at 49 CFR 1.50.

Issued: November 24, 2010.
Joseph S. Carra,
Acting Associate Administrator for Rulemaking.

[FR Doc. 2010-30096 Filed 11-24-10; 4:15 pm]

BILLING CODE 4910-56-P